DEPARTMENT OF ENERGY

Federal Energy Regulatory Commission

Combined Notice of Filings #1

Take notice that the Commission received the following electric rate filings:

Docket Numbers: ER16-2360-008; ER12-2037-013; ER12-2314-009; ER15-2129-006; ER15-2130-006; ER15-2131-006; ER17-2258-004.

Applicants: Great Western Wind Energy, LLC, Milo Wind Project, LLC, Rock Falls Wind Farm LLC, Roosevelt Wind Project, LLC, Slate Creek Wind Project, LLC, Spearville 3, LLC, Spinning Spur Wind LLC.

Description: Notice of Change in Status of Great Western Wind Energy, LLC, et al.

Filed Date: 4/16/21.

Accession Number: 20210416-5383.

Comments Due: 5 p.m. ET 5/7/21.

Docket Numbers: ER20-2671-001; ER21-425-001; ER21-848-001.

Applicants: Water Strider Solar, LLC, Copper Mountain Solar 5, LLC, Battle Mountain SP, LLC.

Description: Notice of Non-Material Change in Status of Water Strider Solar, LLC, et al.

Filed Date: 4/16/21.

Accession Number: 20210419-5133.

Comments Due: 5 p.m. ET 5/7/21.

Docket Numbers: ER21-1707-000.

Applicants: The Potomac Edison Company, PJM Interconnection, L.L.C.

Description: § 205(d) Rate Filing: Potomac submits Interconnection Agreement, SA No. 4452 with ODEC to be effective 6/16/2021.

Filed Date: 4/16/21.

Accession Number: 20210416-5349.

Comments Due: 5 p.m. ET 5/7/21.

Docket Numbers: ER21-1708-000.

Applicants: PJM Interconnection, L.L.C.

Description: § 205(d) Rate Filing: Original ISA, Service Agreement No. 6009; Queue No. AF2-168 to be effective 3/18/2021.

Filed Date: 4/19/21.

Accession Number: 20210419-5007.

Comments Due: 5 p.m. ET 5/10/21.

Docket Numbers: ER21-1709-000.

Applicants: ISO New England Inc., Vermont Transco LLC.

Description: Compliance filing: Vermont Transco LLC; Supplemental Order No. 864 Compliance Filing to be effective 1/1/2020.

Filed Date: 4/19/21.

Accession Number: 20210419-5039.

Comments Due: 5 p.m. ET 5/10/21.

Docket Numbers: ER21-1710-000.

Applicants: New York Transco, LLC, New York Independent System Operator, Inc.

Description: § 205(d) Rate Filing: 205 EPCA among Transco, Holcim and NYISO SA No. 2617 to be effective 4/2/2021.

Filed Date: 4/19/21.

Accession Number: 20210419-5088.

Comments Due: 5 p.m. ET 5/10/21.

Docket Numbers: ER21-1711-000.

Applicants: PacifiCorp.

Description: § 205(d) Rate Filing: OATT Formula Rate—Schedule 10 Loss Factor for June 2021 to be effective 6/1/2021.

Filed Date: 4/19/21.

Accession Number: 20210419-5095.

Comments Due: 5 p.m. ET 5/10/21.

Docket Numbers: ER21-1712-000.

Applicants: Indiana Michigan Power Company, AEP Indiana Michigan Transmission Company, PJM Interconnection, L.L.C.

Description: § 205(d) Rate Filing: AEP submits Harber Facilities Agreement re: SA No. 1262 to be effective 6/19/2021.

Filed Date: 4/19/21.

Accession Number: 20210419-5121.

Comments Due: 5 p.m. ET 5/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2021.
Kimberly D. Bose,
Secretary.

[FR Doc. 2021-08523 Filed 4-22-21; 8:45 am]

BILLING CODE 6717-01-P